DEPARTMENT OF AGRICULTURE

Agricultural Marketing Service

[Doc. No. AMS-TM-09-0057; TM-09-05]

Notice of Agricultural Management Assistance Organic Certification Cost-Share Program

AGENCY: Agricultural Marketing Service, USDA.

ACTION: Notice of funds availability. Inviting applications for the Agricultural Management Assistance Organic Certification Cost-Share Program.

SUMMARY: This notice invites the following eligible States: Connecticut, Delaware, Hawaii, Maine, Maryland, Massachusetts, Nevada, New Hampshire, New Jersey, New York, Pennsylvania, Rhode Island, Utah, Vermont, West Virginia, and Wyoming, to submit an Application for Federal Assistance (Standard Form 424), and to enter into a Cooperative Agreement with the Agricultural Marketing Service (AMS) for the Allocation of Organic Certification Cost-Share Funds. The AMS has allocated $1.5 million for this organic certification cost-share program in Fiscal Year 2009. Funds are available under this program to 16 designated States to provide cost-share assistance to organic crop and livestock producers certified under the National Organic Program (NOP). Eligible States interested in obtaining cost-share funds for their organic producers will have to submit an Application for Federal Assistance, and enter into a cooperative agreement with AMS for allocation of funds.

DATES: Completed applications for federal assistance along with signed cooperative agreements must be received by close of business, October 23, 2009.

ADDRESSES: Applications for Federal assistance and cooperative agreements shall be submitted to: Robert Pooler, Agricultural Marketing Specialist, National Organic Program, USDA/AMS/TMP/NOP, Room 4004-South, Ag Stop 0268, 1400 Independence Avenue, SW., Washington, DC 20250-0264; Telephone: (202) 720-3252. Additional information can be found under “Organic Cost Share Program” on the National Organic Program's homepage at http://www.ams.usda.gov/nop.

FOR FURTHER INFORMATION CONTACT: Robert Pooler, Agricultural Marketing Specialist, National Organic Program, USDA/AMS/TM/NOP, Room 4004-South, Ag Stop 0268, 1400 Independence Avenue, SW., Washington, DC 20250-0268; Telephone: (202) 720-3252.

SUPPLEMENTARY INFORMATION: This Organic Certification Cost-Share Program is part of the Agricultural Management Assistance (AMA) Program authorized under the Federal Crop Insurance Act (FCIA), as amended, (7 U.S.C. 1524). Under the applicable FCIA provisions, the Department is authorized to provide cost-share assistance to organic producers in the States of Connecticut, Delaware, Hawaii, Maine, Maryland, Massachusetts, Nevada, New Hampshire, New Jersey, New York, Pennsylvania, Rhode Island, Utah, Vermont, West Virginia, and Wyoming. The AMS has allocated $1.5 million for this organic certification cost-share program in Fiscal Year 2009. This organic certification cost-share program provides financial assistance to organic producers certified to the NOP authorized under the Organic Foods Production Act of 1990, as amended (7 U.S.C. 6501 et seq.). This program is in addition to and separate from the National Organic Certification Cost-Share Program which is also administered by AMS and is open to all States and U.S. Territories.

To participate in the program, eligible States, through their State Department of Agriculture, must complete an Application for Federal Assistance (Standard Form 424) and enter into a written cooperative agreement with AMS. State Department of Agriculture refers to agencies, commissions, or departments of State government responsible for implementing regulation, policy or programs on agriculture within their State. The program will provide cost-share assistance, through participating States, to organic crop and livestock producers receiving certification or continuation of certification by a USDA accredited certifying agent commencing October 1, 2009, through September 30, 2010. The Department has determined that payments will be limited to 75 percent of an individual producer's certification costs up to a maximum of $750.00.

To receive cost-share assistance, organic producers must submit an application to the representative Agency of the State in which their farm/operation is located. This application must include: (1) Proof of NOP certification issued or continued within the cost-share qualifying period, October 1, 2009, through September 30, 2010, and; (2) an itemized invoice demonstrating costs incurred for NOP certification. Costs incurred for non-certification activities, such as, membership associations or farm/operation inputs are not eligible for assistance through this program. Assistance provided to eligible producers under this cost-share program is included under the Agricultural Management Assistance (AMA) Program. Total amount of cost-share payments provided to any eligible producer under all AMA programs cannot exceed $50,000.

How To Submit Applications: To receive fund allocations to provide cost-share assistance, a State Department of Agriculture must complete an Application for Federal Assistance (Standard Form 424), and enter into a written cooperative agreement with AMS. State Agencies submitting hard copy applications should submit a signed copy of Standard Form 424 and a signed copy of the cooperative agreement to AMS at the address listed above. The Standard Form 424 and the cooperative agreement must have the original signature of the official who has authority to apply for Federal assistance. Hard copy applications should be sent only via express mail or courier service and must be received at the above address by October 23, 2009.

AMS encourages interested States to submit the Application for Federal Assistance, (Standard Form 424) electronically via Grants.gov, the Federal grants Web site, http://www.grants.gov. Applications submitted electronically via Grants.gov must be filed by October 23, 2009. A hardcopy of Standard Form 424 bearing an original signature is not required when applying through http://www.grants.gov. However, the cooperative agreement must have the original signature of the official who has authority to apply for Federal assistance. The signed cooperative agreement must be sent by express mail or courier service and received at the above address by October 23, 2009. States considering submitting electronic application forms should become familiar with the Grants.Gov website and begin the application process well in advance of the application deadline. For information on how to apply electronically, please consult http://www.grants.gov/GetRegistered.

The AMA Organic Certification Cost-Share Program is listed in the “Catalog of Federal Domestic Assistance” under number 10.163 and subject agencies must adhere to Title VI of the Civil Rights Act of 1964, which bars discrimination in all Federally assisted programs. Additional information on the AMA Organic Certification Cost-Share Program can be found under “Organic Cost Share Program” on the NOP's homepage at http://www.ams.usda.gov/nop.

Authority: 7 U.S.C. 1524.

Dated: September 25, 2009.
Rayne Pegg,
Administrator, Agricultural Marketing Service.

[FR Doc. E9-23647 Filed 9-30-09; 8:45 am]

BILLING CODE 3410-02-P